DEPARTMENT OF THE TREASURY

President's Commission on the United States Postal Service

AGENCY: Department of the Treasury, Departmental Offices.

ACTION: Notice of Meeting.

SUMMARY: Notice is given of a meeting of the President's Commission on the United States Postal Service.

DATES: The meeting will be held on Tuesday, March 18, 2003 from 9:30 a.m. to approximately 3 pm.

ADDRESSES: The meeting will be held at The LBJ Library and Museum, 8th Floor Atrium, 2313 Red River Street, Austin, Texas 78705.

FOR FURTHER INFORMATION CONTACT: Roger Kodat, Designated Federal Official, 202-622-7073.

SUPPLEMENTARY INFORMATION: At the public meeting, the Commission will examine (1) the impact of the electronic diversion of First-Class letter mail, (2) the automation and other technologies currently utilized by the United States Postal Service, and (3) potential opportunities for business growth that may be available as result of technological innovations. Witnesses will testify at the invitation of the Commission. At the meeting, the Technologies Challenges and Opportunities Subcommittee will report to the Commission. Seating is limited to a maximum of 200.

Dated: February 26, 2003.
Roger Kodat,
Designated Federal Official.

[FR Doc. 03-4938 Filed 3-3-03; 8:45 am]

BILLING CODE 4811-16-P